DEPARTMENT OF EDUCATION

Notice of Proposed Information Collection Requests

AGENCY: Department of Education.

SUMMARY: The Director, Information Collection Clearance Division, Regulatory Information Management Services, Office of Management, invites comments on the proposed information collection requests as required by the Paperwork Reduction Act of 1995.

DATES: Interested persons are invited to submit comments on or before October 19, 2009.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Director, Information Collection Clearance Division, Regulatory Information Management Services, Office of Management, publishes that notice containing proposed information collection requests prior to submission of these requests to OMB. Each proposed information collection, grouped by office, contains the following: (1) Type of review requested, e.g., new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: August 13, 2009.
Angela C. Arrington,
Director, Information Collection Clearance Division, Regulatory Information Management Services, Office of Management.

National Institute for Literacy

Type of Review: New.

Title: Understanding Effective K-3 Reading Programs Based on Scientific Reading Research.

Frequency: One time.

Affected Public: Businesses or other for-profit; State, Local, or Tribal Gov't, SEAs or LEAs.

Reporting and Recordkeeping Hour Burden:

Responses: 87.

Burden Hours: 1,037.

Abstract: The National Institute for Literacy (NIFL) is authorized under the No Child Left Behind Act, Public Law 107-110, part B, subpart 1, section 1207 to “* * * identify and disseminate information about schools, local educational agencies, and State educational agencies that have effectively developed and implemented classroom reading programs that meet the requirements of this subpart (Reading First)* * *”. To carry out this authorized activity, the NIFL is first conducting a set of case studies, identifying Schools with Effective Reading Programs, to be implemented by a research team from Education Development Center, Inc. (EDC). The NIFL then will publish findings from the case studies as a report and print and distribute it widely among educators and administrators working with children in kindergarten through third grades as well as reading researchers. The NIFL needs to collect the information proposed in this package to be able to describe in reasonable detail the school- and classroom-based reading strategies employed by schools with high-performing students. The NIFL understands its statutory charge to mean providing information that explains what the schools did and how they did it rather than general information from sources such as school Web sites. While the findings from case studies should not be construed as guidance to schools seeking to improve their K-3 students' reading outcomes, the information from this study may bring to light detail that contributes to deeper understanding of effective reading instruction and informs future research on K-3 reading instruction. The respondents will be drawn from two schools in each of three districts that have been identified as having positive student outcomes in reading according to a comprehensive approach established as part of the study. The estimated number of respondents will be: 6 Principals, 6 Reading Specialists/Literacy Specialists, 3 English Language Arts District Coordinators, 72 Teachers (estimated). Only an estimate of the number of teacher respondents is possible until we have agreements from the participating schools. The estimate is based on three teachers per grade level, K-3, at each school.

Requests for copies of the proposed information collection request may be accessed from http://edicsweb.ed.gov, by selecting the “Browse Pending Collections” link and by clicking on link number 4001. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-19842 Filed 8-18-09; 8:45 am]

BILLING CODE 4000-01-P